DEPARTMENT OF TRANSPORTATION

Federal Transit Administration

[FTA Docket No. FTA-2001-9446]

Notice of Request for Approval of a New Collection

AGENCY: Federal Transit Administration, DOT.

ACTION: Notice of request for comments.

SUMMARY: In accordance with the Paperwork Reduction Act of 1995, this notice announces the intention of the Federal Transit Administration (FTA) to request the Office of Management and Budget (OMB) to approve the following new information collection: 49 CFR Part 611 Major Capital Investment Projects.

DATES: Comments must be submitted before June 19, 2001.

ADDRESSES: All written comments must refer to the docket number that appears at the top of this document and be submitted to the United States Department of Transportation, Central Dockets Office, PL-401, 400 Seventh Street, SW., Washington, DC 20590. All comments received will be available for examination at the above address from 10 a.m. to 5 p.m., e.t., Monday through Friday, except federal holidays. Those desiring notification of receipt of comments must include a self-addressed, stamped postcard/envelope.

FOR FURTHER INFORMATION CONTACT: Mr. John Day, Office of Budget and Policy, (202) 366-1671.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: 49 CFR Part 611 Major Capital Investment Projects.

Background: On June 9, 1998, the Transportation Equity Act for the 21st Century (TEA-21) (Pub. L. 105-178) was enacted. Section 3009(e)(5) of TEA-21 requires FTA to issue regulations on the manner in which candidate projects for capital investment grants and loans for new fixed guideway systems and extensions to existing systems (“new starts”) will be evaluated and rated for purposes of the FTA Capital Investment Grants and Loans program for new starts under 49 USC Section 5309.

The Notice of Proposed Rulemaking (NPRM) for this regulation was issued on April 7, 1999, (64 FR 17062). The docket was open for public comment through July 6, 1999, though late-filed comments were accepted through July 19, 1999. Comments were received from a total of 41 individuals and organizations. During the comment period, FTA held three additional public outreach workshops to solicit comments on the proposed rule: one in Toronto, Ontario, on May 24, 1999, in conjunction with the 1999 American Public Transit Association's Commuter Rail/Rapid Transit Conference; one in Oakland, California, on June 3, 1999; and one in Washington, D.C., on June 8, 1999. Notes from these workshops have been placed in the docket for this rule (Docket No. FTA-99-5474-48).

The Final Rule was issued on December 7, 2000, (65 FR 76864) noting that a separate burden analysis would be published for public comment and that FTA would seek a control number from the Office of Management and Budget (OMB) authorizing FTA to collect the required information. This notice serves that purpose.

It is important to note that while the new starts project evaluation and rating regulation is new, the requirements for project evaluation and data collection for the new starts program are not. FTA's requirement to evaluate proposed new starts against a prescribed set of statutory criteria is longstanding. The Surface Transportation and Uniform Relocation Assistance Act of 1987 (STURAA) established in law a set of criteria that proposed projects had to meet in order to be eligible for federal funding. The requirement for summary project ratings has been in place since 1998.

In general, the information used by FTA for new starts project evaluation and rating purposes should arise as a part of the normal planning process. Prior to this Rule, FTA collected project evaluation information from project sponsors under a Paperwork Reduction Act request (OMB No. 2132-0529) approved under the joint FTA/FHWA planning regulations. However, as the project evaluation criteria have expanded under TEA-21, it has become apparent that some information required under this Rule may be beyond the scope of ordinary planning activities. Further, while FTA has long required the reporting of information for project evaluations, there has never been a regulatory requirement until TEA-21. Finally, this Rule adds a new requirement for before-and-after data collection for purposes of Government Performance and Results Act reporting as a condition of obtaining a Full Funding Grant Agreement (FFGA). Therefore, FTA is submitting a separate Paperwork Reduction Act request.

It is also important to note that since this is a new regulatory requirement, the burden estimates include all data collection efforts required by this Rule, regardless of whether or not the same data would have been required under the previous, policy statement-driven process. Thus, the total burden estimate includes items that would have been required whether this regulation had been issued or not. These estimates were also provided in the preamble to the Final Rule dated December 7, 2000.

Respondents: State and local government.

Estimated Annual Burden on Respondents: 487 hours for each of the 97 respondents.

Estimated Total Annual Burden: 47,200 hours.

Frequency: Annual.

Issued: April 13, 2001.
Dorrie Y. Aldrich,
Associate Administrator for Administration.

[FR Doc. 01-9743 Filed 4-19-01; 8:45 am]

BILLING CODE 4910-57-U